OFFICE OF THE UNITED STATES TRADE REPRESENTATIVE

Suspension of the Safeguard Action on Imports of Certain Crystalline Silicon Photovoltaic Cells (Whether or Not Partially or Fully Assembled Into Other Products) Originating in Canada and Modification of the Harmonized Tariff Schedule of the United States

AGENCY: Office of the United States Trade Representative.

ACTION: Notice.

SUMMARY: Pursuant to authority delegated by the President on July 8, 2022, the U.S. Trade Representative reached an agreement with Canada limiting the export from Canada and the import into the United States of certain crystalline silicon photovoltaic cells (whether or not partially or fully assembled into other products) (CSPV products). The U.S. Trade Representative, in consultation with the Secretaries of Commerce and Energy, has determined that the agreement will ensure that imports of CSPV products originating in Canada do not undermine the effectiveness of the President's safeguard action proclaimed on imports of CSPV products. The U.S. Trade Representative is modifying the Harmonized Tariff Schedule of the United States (HTSUS) to suspend application of the safeguard measure to imports of CSPV products originating in Canada.

DATES: The suspension of the application of the safeguard measure to imports of CSPV products originating in Canada and technical changes is applicable as of February 1, 2022.

FOR FURTHER INFORMATION CONTACT: For questions concerning the agreement, contact Michael T. Gagain, Office of General Counsel, at Michael.T.Gagain@ustr.eop.gov or 202-395-9529, or Victor Mroczka, Office of WTO and Multilateral Affairs, at vmroczka@ustr.eop.gov or (202) 395-9450.

SUPPLEMENTARY INFORMATION:

I. The Safeguard Measure on CSPV Products

On January 23, 2018, the President, pursuant to section 203 of the Trade Act of 1974 (Trade Act) (19 U.S.C. 2253), issued Proclamation 9693, which imposed a safeguard measure on imports of CSPV products in the form of a tariff-rate quota on imports of solar cells not partially or fully assembled into other products, and an increase in duties on imports of modules. See 83 FR 3541 (Jan. 25, 2018). The measure took effect on February 7, 2018, for an initial period of four years. On February 4, 2022, the President, pursuant to section 203(e) of the Trade Act (19 U.S.C. 2253(e)), issued Proclamation 10339, which extended the safeguard measure on imports of CSPV products for an additional four years, a period which ends on February 6, 2026. See 87 FR 7357 (Feb. 9, 2022).

In Proclamation 10339, the President instructed the U.S. Trade Representative to enter into negotiations with Canada pursuant to section 203(f) of the Trade Act (19 U.S.C. 2253(f)). The proclamation provides that if the U.S. Trade Representative concludes an agreement with Canada, and the U.S. Trade Representative, in consultation with the Secretaries of Commerce and Energy, determines that imports from Canada do not undermine the effectiveness of the action extended through Proclamation 10339, then the U.S. Trade Representative is authorized to publish a Federal Register notice to revise the HTSUS as appropriate, with respect to imports from Canada. See 87 FR at 7360.

II. The Agreement With Canada and Suspension of the Safeguard Action on Imports of CSPV Products Originating in Canada

On July 8, 2022, pursuant to the authority delegated by the President under section 203(f) of the Trade Act through Proclamation 10339, the U.S. Trade Representative reached an agreement with Canada limiting the export from Canada and the import into the United States of CSPV products. The text of the agreement is available at https://ustr.gov/sites/default/files/US-CA%20Solar%20Agreement_Signed_English_070822.pdf. The U.S. Trade Representative, in consultation with the Secretaries of Commerce and Energy, has determined that this agreement will ensure that imports of CSPV products originating in Canada do not undermine the effectiveness of the safeguard action extended by the President through Proclamation 10339. Accordingly, and pursuant to Proclamation 10339 and section 203(f) of the Trade Act, the U.S. Trade Representative is hereby modifying Note 18 of subchapter III of chapter 99 of the HTSUS (Note 18) to suspend application of the safeguard action on imports of CSPV products to imports of such products originating in Canada. The Annex to this notice modifies the HTSUS to reflect the suspension in application of the safeguard action to imports of CSPV products originating in Canada.

Greta Peisch,
General Counsel, Office of the United States Trade Representative.

[FR Doc. 2022-15519 Filed 7-19-22; 8:45 am]

BILLING CODE 3290-F2-P